SOCIAL SECURITY ADMINISTRATION

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB)

Office of Management and Budget, Attn: Desk Officer for SSA, Fax: 202-395-6974, E-mail address: OIRA_Submission@omb.eop.gov.

(SSA)

Social Security Administration, DCBFM, Attn: Reports Clearance Officer, 1333 Annex Building, 6401 Security Blvd., Baltimore, MD 21235, Fax: 410-965-6400, E-mail address: OPLM.RCO@ssa.gov.

I. The information collections below are pending at SSA. SSA will submit them to OMB within 60 days from the date of this notice. To be sure we consider your comments, we must receive them no later than July 15, 2011. Individuals can obtain copies of the collection instruments by calling the SSA Reports Clearance Officer at 410-965-8783 or by writing to the above e-mail address.

1. Application for Supplemental Security Income (SSI)—20 CFR 416.207 and 416.305-416-335, Subpart C—0960-0229. The SSI program provides aged, blind, and disabled individuals, who have little or no income, funds for food, clothing, and shelter. Individuals complete Form SSA-8000 to apply for SSI. SSA uses information from Form SSA-8000 and its electronic Intranet counterpart, the Modernized SSI Claims System (MSSICS), to determine: (1) Whether SSI claimants meet all statutory and regulatory eligibility requirements and (2) SSI payment amounts. The respondents are applicants for SSI.

Type of Request: Revision of an OMB-approved information collection.

Type of response | Number of respondents | Frequency of response | Average burden per response (minutes) | Total annual burden (hours)
Paper Form | 26,548 | 1 | 36 | 15,929
MSSICS | 143,095 | 1 | 34 | 81,087
MSSICS/w Signature Proxy | 1,157,767 | 1 | 34 | 656,068
Totals | 1,327,410 |  |  | 753,084

2. Disability Update Report—20 CFR 404.1589-404.1595 and 416.988-416.996—0960-0511. SSA periodically reviews current disability beneficiaries' cases to determine if they should continue to receive disability payments. SSA uses Form SSA-455 to determine if: (1) There is enough evidence to warrant referring the case for a full medical Continuing Disability Review (CDR); (2) the beneficiary's impairment is unchanged or only slightly changed, precluding the need for a CDR; or (3) there are unresolved work-related issues. The respondents are recipients of Social Security disability benefits.

Type of Request: Revision of an OMB-approved information collection.

Number of Respondents: 1,100,000.

Frequency of Response: 1.

Average Burden per Response: 15 minutes.

Estimated Annual Burden: 275,000 hours.

II. SSA submitted the information collections below to OMB for clearance. Your comments regarding the information collections would be most useful if OMB and SSA receive them within 30 days from the date of this publication. To be sure we consider your comments, we must receive them no later than June 15, 2011. Individuals can obtain copies of the OMB clearance packages by calling the SSA Reports Clearance Officer at 410-965-8783 or by writing to the above e-mail address.

1. Railroad Employment Questionnaire—20 CFR 404.1401, 404.1406-404.1408—0960-0078. Railroad workers, their dependents, or survivors can concurrently apply for railroad retirement and Social Security benefits at SSA whenever the number holder, or claimant on the number holder's Social Security number, worked in the railroad industry. SSA uses the SSA-671 to coordinate Social Security claims processing with the Railroad Retirement Board, and to determine benefit entitlement and amount. The respondents are Social Security benefit applicants employed by a railroad or are dependents of railroad workers.

Type of Request: Revision of an OMB-approved information collection.

Number of Respondents: 125,000.

Frequency of Response: 1.

Average Burden of Response: 5 minutes.

Estimated Annual Burden: 10,417 hours.

2. Government Pension Questionnaire—20 CFR 404.408a—0960-0160. When someone is concurrently receiving spouse or surviving spousal Social Security benefits and a government pension based on non-Social Security earnings, SSA may reduce the benefit amount by two-thirds the amount of the government pension under the Social Security Act's Government Pension Offset (GPO) provision. We use the SSA-3885, Government Pension Questionnaire, to document such cases. SSA uses the information to determine whether GPO applies, to identify exceptions, and to determine the benefit-reduction amount and effective date. The respondents are individuals and households.

Type of Request: Revision of an OMB-approved information collection.

Number of Respondents: 76,000.

Frequency of Response: 1.

Average Burden per Response: 12.5 minutes.

Estimated Annual Burden: 15,833 hours.

3. Annual Earnings Test Direct Mail Follow-Up Program Notices—20 CFR 404.452-404.455—0960-0369. SSA developed the Annual Earnings Test Direct Mail Follow-up Program to improve beneficiary reporting on work and earnings during the year and earnings information at the end of the year. SSA may reduce benefits payable under the Social Security Act when an individual has wages or self-employment income exceeding the annual exempt amount. SSA identifies beneficiaries likely to receive more than the annual exempt amount, and requests more frequent estimates of earnings from them. When applicable, SSA also requests a future year estimate to reduce overpayments due to earnings. SSA sends letters (SSA-L9778, L9779, L9781, L9784, L9785, and L9790) to beneficiaries requesting earnings information the month prior to their attainment of full retirement age. We send each beneficiary a tailored letter that includes relevant earnings data from SSA records. The Annual Earnings Test Direct Mail Follow-up Program helps to ensure Social Security payments are correct. The respondents are working Social Security beneficiaries.

Type of Request: Revision of an OMB-approved information collection.

Modality of completion paper version | Number of respondents | Frequency of response | Average burden per response (minutes) | Total annual burden (hours)
SSA-L9778 | 42,630 | 1 | 10 | 7,105
SSA-L9779 | 158,865 | 1 | 10 | 26,478
SSA-L9781 | 472,437 | 1 | 10 | 78,740
SSA-L9784 | 1,270 | 1 | 10 | 212
SSA-L9785 | 15,870 | 1 | 10 | 2,645
SSA-L9790 | 45,000 | 1 | 10 | 7,500
Totals | 736,072 |  |  | 122,680

4. Medicare Income-Related Monthly Adjustment Amount—Life-Changing Event Form—0960-0784. Per the Medicare Modernization Act of 2003, reductions in the Federal subsidy for Medicare medical coverage (Medicare Part B) result in selected Medicare Part B recipients paying an income-related monthly adjustment amount (IRMAA). The Internal Revenue Service transmits income tax return data to SSA for SSA to determine the IRMAA. SSA uses Form SSA-44 to determine if a recipient qualifies for a reduction in the IRMAA. If affected Medicare recipients believe SSA should use more recent tax data because of a life-changing event that significantly reduces their income, they can report these changes to SSA and ask for a new initial determination of their IRMAA.

In November 2010, we requested emergency OMB clearance for a new SSA-44 to fulfill the provisions of the Affordable Care Act (Pub. L. 111-148), which mandates reductions in the Federal Medicare Part D prescription drug coverage subsidies, resulting in higher premiums for those who have this coverage and who have income above a specific threshold. The provisions of the law became effective January 1, 2011, and we obtained emergency clearance for this form on November 23, 2010. We are now seeking full OMB clearance for this form. The respondents are Medicare Part B and prescription drug coverage recipients and enrollees with modified adjusted gross income over a high-income threshold who experience one of the eight significant life-changing events.

Type of Request: Extension of an OMB-approved information collection.

Method of information collection | Number of respondents | Frequency of response | Average burden per response (minutes) | Estimated annual burden (hours)
Personal Interview (SSA field office) | 147,000 | 1 | 30 | 73,500
Paper Form (mailed) | 39,000 | 1 | 45 | 29,250
Totals | 186,000 |  |  | 102,750

Dated: May 11, 2011.
Faye Lipsky,
Reports Clearance Officer, Center for Reports Clearance, Social Security Administration.

[FR Doc. 2011-11958 Filed 5-13-11; 8:45 am]

BILLING CODE 4191-02-P